FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Reimbursement for Cost of Fighting Fire on Federal Property.

Type of Information Collection: Extension of a currently approved collection.

OMB Number: 3067-0141.

Abstract: The collection of information is required in order to reimburse fire services for claims submitted for fighting fires on property, which is under the jurisdiction of the United States and to determine the amount authorized for payment. The FEMA Director, the United States Fire Administration Administrator, and the U.S. Department of Treasury will use the information to ensure proper expenditure of Federal funds.

Affected Public: Business or Other For Profit, Not-For-Profit Institutions, and State, Local or Tribal Government.

Number of Respondents: 4.

Estimated Time per Respondent: 1.5 hours.

Estimated Total Annual Burden Hours: 24 hours.

Frequency of Response: On Occasion.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, Information Resources Management Division, Information Technology Services Directorate, Federal Emergency Management Agency, 500 C Street, SW., Room 316, Washington, DC 20472. Facsimile number (202) 646-3347, or e-mail address InformationCollections@fema.gov.

Dated: November 25, 2002.
Edward W. Kernan,
Division Director, Information Resources Management Division, Information Technology Services Directorate.

[FR Doc. 02-30387 Filed 11-29-02; 8:45 am]

BILLING CODE 6718-01-P